DEPARTMENT OF HOMELAND SECURITY

Transportation Security Administration

New Agency Information Collection Activity Under OMB Review: Law Enforcement Officers Safety Act and Retired Badge/Credential

AGENCY: Transportation Security Administration, DHS.

ACTION: 30-day Notice.

SUMMARY: This notice announces that the Transportation Security Administration (TSA) has forwarded the new Information Collection Request (ICR) abstracted below to the Office of Management and Budget (OMB) for review and approval under the Paperwork Reduction Act (PRA). The ICR describes the nature of the information collection and its expected burden. The collection involves the submission of information from former employees who are interested in a Law Enforcement Officers Safety Act (LEOSA) Identification (ID) Card, a retired badge, and/or a retired credential.

DATES: Send your comments by November 30, 2018. A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to dhsdeskofficer@omb.eop.gov.

FOR FURTHER INFORMATION CONTACT: Christina A. Walsh, TSA PRA Officer, Information Technology (IT), TSA-11, Transportation Security Administration, 601 South 12th Street, Arlington, VA 20598-6011; telephone (571) 227-2062; email TSAPRA@tsa.dhs.gov.

SUPPLEMENTARY INFORMATION: TSA published a Federal Register notice, with a 60-day comment period soliciting comments, of the following collection of information on May 30, 2018, 83 FR 24814.

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Consistent with the requirements of Executive Order (E.O.) 13771, Reducing Regulation and Controlling Regulatory Costs, and E.O. 13777, Enforcing the Regulatory Reform Agenda, TSA is also requesting comments on the extent to which this request for information could be modified to reduce the burden on respondents.

Information Collection Requirement

Title: Law Enforcement Officers Safety Act and Retired Badge/Credential.

Type of Request: New collection.

OMB Control Number: 1652-XXXX.

Forms: TSA Form 2825A; TSA Form 2808.

Affected Public: Former TSA employees.

Abstract: TSA Management Directive (MD) 3500.1, LEOSA Applicability and Eligibility (June 5, 2018), implements the LEOSA ¹ statute, DHS Directive 257-01 Law Enforcement Officers Safety Act (Dec. 22, 2017) and DHS Instruction Number 257-01-001, The Law Enforcement Officers Safety Act Instruction (Jan. 18, 2018). Under this MD, TSA issues photographic identification to retired LEOs who separated or retired from TSA in “good standing” and meet other qualification requirements identified in this MD.

¹ “Qualified retired law enforcement officer” may carry a concealed firearm in any jurisdiction in the United States, regardless of State or local laws, with certain limitations and conditions. See Pub. L. 108-277 (118 Stat. 865, July 22, 2004), codified in 18 U.S.C. 926B and 926C, as amended by the Law Enforcement Officers Safety Act Improvements Act of 2010 (Pub. L. 111-272, 124 Stat. 2855, Oct. 12, 2010) and National Defense Authorization Act for Fiscal Year 2013 (Pub. L. 112-239, 126 Stat. 1970, Jan. 2, 2013).

Under TSA MD 2800.11, Badge and Credential Program (Jan. 27, 2014), an employee retiring from Federal service is eligible to receive a “retired badge and/or credential” if the individual: (1) Was issued a badge and/or credential, (2) qualifies for a Federal annuity under the Civil Service Retirement System (CSRS) or the Federal Employees Retirement System (FERS), and (3) meets all of the other qualification requirements under the MD.²

² These instructions are included in DHS Instruction: 121-01-002 (Issuance and Control of DHS Badges); DHS Instruction 121-01-008 (Issuance and Control of the DHS Credentials); and the associated Handbook for TSA MD 2800.11.

Under TSA's current application process for these two programs, qualified applicants may apply for a LEOSA ID Card, a Retired Badge, and/or a Retired Credential, as applicable, either while still employed by the Federal Government (shortly before separating or retiring from the position for which they held their badge and/or credential) or after they have separated or retired (after they become private citizens, i.e., are no longer employed by the Federal Government).

The LEOSA Identification Card Application (TSA Form 2825A) requires collection of identifying information, contact information, official title, separation date, and last known field office. Similarly, TSA Form 2808-R, Retired Badge and/or Retired Credential Application,³ requires collection of identifying information, contact information, TSA employment/position information (TSA component or Government agency), official title, and entry on duty date.

³ Since the publication of the 60-day notice, the form title of TSA Form 2808, Personal Identify Verification (PIV) Card, Badge, Credential or Access Control Application, has been updated to TSA Form 2808-R, Retired Badge and/or Retired Credential Application.

Number of Respondents: 62.

Estimated Annual Burden Hours: An estimated 5.17 hours annually.

Dated: October 25, 2018.
Christina A. Walsh,
TSA Paperwork Reduction Act Officer, Information Technology.

[FR Doc. 2018-23818 Filed 10-30-18; 8:45 am]

BILLING CODE 9110-05-P